DEPARTMENT OF TRANSPORTATION

Federal Highway Administration

23 CFR Part 450

Federal Transit Administration

49 CFR Part 613

[Docket No. FHWA-2013-0037]

RIN 2125-AF52; 2132-AB10

Statewide and Nonmetropolitan Transportation Planning; Metropolitan Transportation Planning

AGENCY: Federal Highway Administration (FHWA), Federal Transit Administration (FTA); Department of Transportation (DOT).

ACTION: Notice of proposed rulemaking; extension of comment period.

SUMMARY: The FHWA and FTA are extending the comment period for a notice of proposed rulemaking (NPRM) and request for comments, which was published on June 2, 2014. The original comment period is set to close on September 2, 2014. The extension is based on concern expressed by the American Association of State Highway and Transportation Officials (AASHTO) that the September 2 closing date does not provide sufficient time to review and provide comprehensive comments on the NPRM. The FHWA and FTA recognize that others interested in commenting may have similar concerns and agrees that the comment period should be extended. Therefore, the closing date for comments is changed to October 2, 2014, which will provide AASHTO and others interested in commenting additional time to discuss, evaluate, and submit responses to the docket.

DATES: The comment period for the proposed rule published on June 2, 2014 (79 FR 31784), is extended. Comments must be received on or before October 2, 2014.

ADDRESSES: Mail or hand deliver comments to the U.S. Department of Transportation, Dockets Management Facility, 1200 New Jersey Avenue SE., Washington, DC 20590, or submit electronically at http://www.regulations.gov. All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78) or you may visit http://www.regulations.gov.

FOR FURTHER INFORMATION CONTACT: For the FHWA: Mr. Harlan W. Miller, Planning Oversight and Stewardship Team (HEPP-10), (202) 366-0847; or Ms. Anne Christenson, Office of the Chief Counsel (HCC-30), (202) 366-1356. For the FTA: Ms. Sherry Riklin, Office of Planning and Environment, (202) 366-5407; Mr. Dwayne Weeks, Office of Planning and Environment, (202) 493-0316; or Mr. Christopher Hall, Office of Chief Counsel, (202) 366-5218. Both agencies are located at 1200 New Jersey Avenue SE., Washington, DC 20590. Office hours are from 8:00 a.m. to 4:30 p.m., e.t. for FHWA, and 9 a.m. to 5:30 p.m., e.t. for FTA, Monday through Friday, except Federal holidays.

SUPPLEMENTARY INFORMATION:

Electronic Access and Filing

You may submit or access all comments received by DOT online through: http://www.regulations.gov. Electronic submission and retrieval help and guidelines are available on the Web site. It is available 24 hours each day, 365 days each year. Please follow the instructions. An electronic copy of this document may also be downloaded from the Federal Register's home page at: http://www.federalregister.gov.

Background

On June 2, 2014, FHWA and FTA published in the Federal Register an NPRM proposing changes revisions to the regulations governing the development of metropolitan transportation plans and programs for urbanized areas, State transportation plans and programs, and the congestion management process. The changes reflect recent passage of the Moving Ahead for Progress in the 21st Century Act (MAP-21). The MAP-21 continues many provisions related to transportation planning from prior laws; however, it introduces transformational changes and adds some new provisions. The proposed rule would make the regulations consistent with current statutory requirements and proposes the following: A new mandate for State departments of transportation (States) and metropolitan planning organizations (MPO) to take a performance-based approach to planning and programming; a new emphasis on the nonmetropolitan transportation planning process, by requiring States to have a higher level of involvement with nonmetropolitan local officials and providing a process for the creation of regional transportation planning organizations; a structural change to the membership of the larger MPOs; a new framework for voluntary scenario planning; revisions to the integration of the planning and environmental review process; and a process for programmatic mitigation plans.

The original comment period for the NPRM closes on September 2, 2014. The AASHTO has expressed concern that this closing date does not provide sufficient time to review and provide comprehensive comments on the NPRM. The FHWA recognizes that others interested in commenting may have similar concerns and agrees that the comment period should be extended. To allow time for this organization and others to submit comprehensive comments, the closing date is changed from September 2, 2014, to October 2, 2014.

Authority: 23 U.S.C. 134 and 135; 42 U.S.C. 7410 et seq.; 49 U.S.C. 5303 and 5304; 49 CFR 1.85 and 1.90.

Issued in Washington, DC, on August 27, 2014, under authority delegated in 49 CFR 1.85 and 1.91.
Gregory G. Nadeau,
Acting Administrator, Federal Transit Administration.
Therese W. McMillan,
Acting Administrator.

[FR Doc. 2014-20885 Filed 8-28-14; 4:15 pm]

BILLING CODE 4910-22-P